DEPARTMENT OF ENERGY

[Docket Number: DOE-HQ-2024-0018]

Notice of Request for Information Related to the Department of Energy's Environmental Justice Strategic Plan

AGENCY: Office of Energy Justice and Equity, Department of Energy.

ACTION: Request for information (RFI).

SUMMARY: Pursuant to the Executive order (E.O.), Revitalizing our Nation's Commitment to Environmental Justice for All, the Department of the Energy (DOE) is drafting its Environmental Justice Strategic Plan and soliciting feedback on its draft environmental justice goals (included in the SUPPLEMENTARY INFORMATION section).

DATES: Interested persons are invited to provide oral feedback on DOE's draft environmental justice goals DOE should evaluate to advance the draft environmental justice vision, goals, and objectives during one of three public virtual listening sessions. For the latest information on the dates and registration, please go to: https://www.energy.gov/justice/calendar-events.

Tentative Dates: Tuesday, July 9, 2024 3-5 p.m. ET.

Wednesday, July 10, 2024 11-1 p.m. ET.

Thursday, July 11, 2024 5-7 p.m. ET.

Comments are being collected both orally and written. Written comments are requested on or before July 31, 2024, and must be received no later than 11:59 p.m. eastern time (ET) on July 31, 2024. Written submissions received after that date may not be considered. DOE will not reply individually to responders but will consider all comments submitted by the deadline.

ADDRESSES: Comments may be submitted by any of the following methods:

Oral submission: Participate in one of the scheduled virtual listening sessions where you have an opportunity to share your comments. Sessions will be recorded but engagement tools like Mentimeter and Slido will also be used to collect feedback. Register at https://www.energy.gov/justice/calendar-events to attend a listening session.

Listening sessions will be 90 minutes and they will be recorded. The sessions will start with an overview and then interested persons will have the opportunity to provide feedback using a variety of engagement tools.

If you require a reasonable accommodation to attend a listening session, please email energyjustice@hq.doe.gov at least ten days prior to the session you are interested in attending.

Electronic submission: Submit electronic public comments via the Federal e-Rulemaking Portal.

1. Go to www.regulations.gov and enter DOE-2024-0018 in the search field,

2. Click the “Comment Now!” icon, complete the required fields, and

3. Enter or attach your comments.

Email: Electronic submissions may also be sent as an attachment to energyjustice@hq.doe.gov with “DOE EJ Strategic Plan RFI” in the subject line in any of the following unlocked formats: HTML; ASCII; Word; RTF; Unicode, or PDF.

Mail: Written comments may also be submitted by mail to: Department of Energy, Office of Energy Justice and Equity, 1000 Independence Avenue SW, Washington, DC 20585.

Response to this RFI is voluntary. Submissions must not exceed ten (10) pages (when printed) in 12-point or larger font, with a page number provided on each page. Please include your name, organization's name (if any), and cite “DOE EJ Strategic Plan RFI” in all correspondence.

Comments containing references, studies, research, and other empirical data that are not widely published should include copies of the referenced materials. All comments and submissions, including attachments and other supporting materials, will become part of the public record and subject to public disclosure. Relevant comments will generally be available on the Federal eRulemaking Portal at www.regulations.gov. DOE will not accept comments accompanied by a request where part or all of the material be treated confidentially because of its business proprietary nature or for any other reason. Therefore, do not submit confidential business information or otherwise sensitive, protected, or personal information, such as account numbers, Social Security numbers, or names of other individuals.

FOR FURTHER INFORMATION CONTACT: For questions about this RFI contact: email energyjustice@hq.doe.gov, call Kelly Crawford, Senior Advisor for Energy & Environmental Justice, Department of Energy, Office of Energy Justice and Equity at (202) 586-2533 or submit via mail to Department of Energy, Office of Energy Justice and Equity, 1000 Independence Avenue SW, Washington, DC 20585. Direct media inquiries to DOE's Office of Public Affairs at (202) 586-4940. Users of telecommunication devices for the deaf, or a text telephone, may call the Federal Relay Service toll free at 1-800-877-8339.

Accessible Format: DOE will make the RFI available in alternate formats, such as Braille or large print, upon request by persons with disabilities.

SUPPLEMENTARY INFORMATION: Through the development of this Strategic Plan, DOE will:

Conceptualize the unique way in which equity intersects with the energy system and to develop the concept of energy justice.

• Explore objectives and initiatives towards strategic goal by examining internal and external perspectives through the lens of these widely held pillars of energy justice: Procedural Justice, Recognition Justice, Distributive Justice, and Restorative Justice

• Acknowledge DOE's history, recognizing the opportunities to redress these unique historical environmental harms.

• Discuss the role of equity in the context of energy systems and address the evolution of language and definitions in the space.

• Clarify terminology for reference and to orient the relationship of this plan to the Equity Action Plan.

• Discuss the Role of Justice 40 as a tool to implement Energy Justice and Environmental Justice at DOE.

• The information provided in response to this Request for Information will inform the preparation of that plan.

The Department of Energy is seeking public input to assist in carrying out certain of its responsibilities under sections 3(a)(vii) and (xi) of E.O. 14096, issued on April 21, 2023 (88 FR 25251). This RFI addresses the specific responsibilities cited as follows. Other topics in E.O. 14096 are being addressed separately by DOE and other agencies. This request for information pertains solely to collecting feedback on the proposed strategic goals. The public is encouraged to provide input in response to the questions listed to help the Department understand the potential environmental justice impact of its Strategic Plan.

E.O. 14096 section 4(b) directs Federal agencies to “set forth the agency's vision, goals, priority actions, and metrics to address and advance environmental justice.” The Environmental Justice Strategic Plan “shall . . . identify and address opportunities through regulations, policies, permits, or other means to improve accountability and compliance with any statute the agency administers that affects the health and environment of communities with environmental justice concerns.” Among those actions, section 4(a) directs DOE to create an Environmental Justice Strategic Plan no later than 18 months after the date of the E.O. and every four years thereafter. The Strategic Plan shall be submitted to the Chair of the White House Council on Environmental Quality and made available to the public online.

DOE seeks to establish new goals and objectives to support resilient communities and provide meaningful public participation for all persons in DOE decision-making processes that may affect human health or the environment. DOE's environmental justice program must evolve as the environmental justice landscape evolves due to climate change, new scientific developments, and an increased policy focus on environmental justice and equity throughout the Federal Government. In brief, new and more ambitious approaches are essential, with concrete, meaningful steps needed to advance energy and environmental justice.

To help guide input, DOE would appreciate feedback on the following suggested questions:

1. Do the draft environmental justice strategic goals provided as follows address your interests and concerns about the advancement of environmental justice by the Department of Energy? Why or why not?

Goal 1: Build cultural & technical capacity of Department of Energy staff and leadership.

Goal 2: Respect and honor cultural implications of our energy system.

Goal 3: Recognize and repair harms to communities and to the environment.

Goal 4: Enhance public participation in agency decision making.

Goal 5: Substantively address unique harms of the energy system such as energy insecurity, energy democracy and energy poverty.

2. What actions should the Department of Energy undertake to advance environmental justice?

3. What performance measures or metrics should the Department of Energy establish to monitor progress towards advancing environmental justice?

4. What are examples of successful collaborations between Federal agencies and Tribal, Territorial, local, and State governments or communities with environmental justice concerns?

5. How can DOE better engage and collaborate effectively with Tribes, both federally and non-federally recognized, Native Hawaiian organizations, and Indigenous Peoples, including Indigenous migrant communities?

6. How can DOE better assist communities, local governments, and community benefit organizations with drafting and developing CBPs as they apply for DOE grants?

7. How can DOE assist communities that are beneficiaries of Community Benefits Plans?

8. How can DOE ensure successful implementation, compliance or enforcement of Community Benefit Plans?

9. What are examples of regional approaches to building community capacity supporting energy democracy?

Any information obtained from this RFI is intended for Government planning and strategy development. Response to this RFI is voluntary. Respondents may answer as many or as few questions as they wish. Comments of ten (10) pages or fewer are requested.

Confidential Business Information: Pursuant to 10 CFR 1004.11, any person submitting information that he or she believes to be confidential and exempt by law from public disclosure should submit via email two well-marked copies: one copy of the document marked “confidential” including all the information believed to be confidential, and one copy of the document marked “non-confidential” with the information believed to be confidential deleted. Submit these documents via email to energyjustice@hq.doe.gov. DOE will make its own determination about the confidential status of the information and treat it according to its determination.

Signing Authority

This document of the Department of Energy was signed on June 5, 2024, by Shalanda H. Baker, Director, Office of Energy Justice and Equity, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on June 14, 2024.
Treena V. Garrett,
Federal Register Liaison Officer, U.S. Department of Energy.

[FR Doc. 2024-13467 Filed 6-18-24; 8:45 am]

BILLING CODE 6450-01-P